DEPARTMENT OF ENERGY

Federal Energy Regulatory Commission

[Docket No. IC03-587-001, FERC-587]

Commission Information Collection Activities, Proposed Collection; Comment Request; Submitted for OMB Review

July 29, 2003.

AGENCY: Federal Energy Regulatory Commission.

ACTION: Notice.

SUMMARY: In compliance with the requirements of Section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of April 11, 2003 (68 FR 17789) and has made this notation in its submission to OMB. (A companion Federal Register notice was published April 24, 2003 (68 FR 20124-25) providing a copy of the proposed form.)

DATES: Comments on the collection of information are due by August 27, 2003.

ADDRESSES: Address comments on the collection of information to the Office of Management and Budget, Office of Information and Regulatory Affairs, Attention: Federal Energy Regulatory Commission Desk Officer. The Desk Officer may be reached by fax at 202-395-7285 or by e-mail at pamelabeverly.oirasubmission@omb.eop.gov. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE. Washington, DC 20426 and should refer to Docket No. IC03-587-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments may be viewed, printed or downloaded remotely via the Internet through FERC's homepage using the FERRIS link. User assistance for FERRIS and the FERC's Web site during business hours by contacting, FERC Online Support at FERCOnlineSupport@ferc.gov or toll free at (866) 208-3676, for TTY (202)502-8659 or the Public Reference at (202)-8371 or by e-mail to public.reference.room@ferc.gov.

FOR FURTHER INFORMATION CONTACT: Michael Miller may be reached by telephone at (202)502-8415, by fax at (202)273-0873, and by e-mail at michael.miller@ferc.gov.

SUPPLEMENTARY INFORMATION:

Description

The information collection submitted for OMB review contains the following:

1. Collection of Information: FERC-587 “Land Description.”

2. Sponsor: Federal Energy Regulatory Commission.

3. Control No.: 1902-0143.

The Commission is now requesting that OMB approve the reinstatement of a former information collection requirement. The information filed with the Commission is mandatory. Requests for confidential treatment of the information are provided for under Section 388.112 of the Commission's regulations.

4. Necessity of the Collection of Information: Submission of the information is necessary to enable the Commission to carry out its responsibilities in implementing the statutory provisions of Section 24 of the Federal Power Act (FPA), 16 U.S.C. 818. Section 24 requires applicants proposing to construct hydroelectric projects, or to make changes to existing hydroelectric projects located on lands owned by the United States are required to provide a description of the U.S. lands affected to the Commission and to the Secretary of Interior. FERC Form 587 identifies project boundary maps associated with lands of the United States. The Commission verifies the accuracy of the information supplied and coordinates with the Bureau of Land Management State Offices (BLM) so that U.S. lands can be reserved as hydroelectric and withdrawn from other uses.

The Commission uses the information to determine the appropriateness of the lands that have been set aside for hydroelectric projects and their proposed location. The determination includes among several factors cost, environmental acceptability and in the public interest. FERC Form 587 is organized to account for lands surveyed in Public and Non-Public Land States. The Public Land States' format is used to describe projects contained on the western side of the United States while the Non-Public Land States' format is used to identify most of the projects located on the eastern side of the United States, including Texas, and is based on county information. The Commission implements these filing requirements in the Code of Federal Regulations (CFR) under 18 CFR part 4.

5. Respondent Description: The respondent universe currently comprises approximately 250 applicants (on average) subject to the Commission's jurisdiction.

6. Estimated Burden: 250 total hours, 250 respondents (average), 1 response per respondent, 1 hour per response (average).

7. Estimated Cost Burden to respondents: 250 hours/2080 hours per years × $117,041 per year = $14,067.

Statutory Authority: Section 24 of the Federal Power Act (16 U.S.C. 818).

Magalie R. Salas,
Secretary.

[FR Doc. 03-19833 Filed 8-4-03; 8:45 am]

BILLING CODE 6717-01-P